DEPARTMENT OF THE INTERIOR

Bureau of Indian Affairs

[234A2100DD/AAKC001030/A0A501010.999900]

Indian Gaming; Approval of Tribal-State Class III Gaming Compact Amendment Between Jamestown S'Klallam Tribe and the State of Washington

AGENCY: Bureau of Indian Affairs, Interior.

ACTION: Notice.

SUMMARY: This notice publishes the approval of the Eighth Amendment to the Tribal-State Compact between the Jamestown S'Klallam Tribe and the State of Washington.

DATES: The Amendment takes effect on September 27, 2023.

FOR FURTHER INFORMATION CONTACT: Ms. Paula L. Hart, Director, Office of Indian Gaming, Office of the Assistant Secretary—Indian Affairs, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment authorizes the Tribe to offer Electronic Table Games at the Tribe's class III gaming facilities, establishes limitations on wagers, credit, gaming stations, and player terminals, and increases contributions to problem gaming resources. Additionally, the Amendment compels the Tribe to establish education and awareness programs for problem gaming and makes minor adjustments to accepted forms of payment, allows the Tribal Court jurisdiction to hear civil disputes arising from the conduct of gaming, and allows the Tribe to increase its maximum wagers and purchase prices to match an increase in prices in the Washington State Lottery.

Bryan Newland,
Assistant Secretary—Indian Affairs.

[FR Doc. 2023-20969 Filed 9-26-23; 8:45 am]

BILLING CODE 4337-15-P